DEPARTMENT OF THE INTERIOR

National Park Service

[NPS-WASO-NAGPRA-NPS0033385; PPWOCRADN0-PCU00RP14.R50000]

Notice of Inventory Completion: U.S. Department of the Interior, Bureau of Reclamation, Oklahoma-Texas Area Office, Oklahoma City, OK

AGENCY: National Park Service, Interior.

ACTION: Notice.

SUMMARY: The Bureau of Reclamation, Oklahoma-Texas Area Office (Reclamation), has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to Reclamation. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Reclamation at the address in this notice by March 14, 2022.

FOR FURTHER INFORMATION CONTACT: Kate Ellison, Archeologist, Bureau of Reclamation, Oklahoma-Texas Area Office, 5924 NW 2nd Street, Suite 200, Oklahoma City, OK 73127, telephone (405) 470-4816, email kellison@usbr.gov.

SUPPLEMENTARY INFORMATION: Notice is here given in accordance with the Native American Graves Protection and Repatriation Act (NAGPRA), 25 U.S.C. 3003, of the completion of an inventory of human remains under the control of the U.S. Department of the Interior, Bureau of Reclamation, Oklahoma City, OK. The human remains were removed from Lake Thunderbird Reservoir, Cleveland County, OK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Reclamation professional staff in consultation with representatives of the Absentee-Shawnee Tribe of Indians of Oklahoma. Representatives from the Wichita and Affiliated Tribes (Wichita, Keechi, Waco, & Tawakonie), Oklahoma were also contacted but declined to consult, on the basis that the land from which the human remains were removed is outside of the Tribe's traditional territory.

History and Description of the Remains

On July 1, 1982, human remains representing, at minimum, one individual were removed from the Little Axe Skeletal Remains Site (34CL210) in Cleveland County, OK. The burial was discovered by a visitor to Little River State Park, who noted the presence human remains exposed by erosion on an access road within the state park near Clear Bay and reported the exposed human remains at the Little Axe Grocery store, whereupon a store employee contacted state park officials. Larry Neal of the Oklahoma Archaeological Society notified Reclamation archeologists of the discovery on July 6, 1982. After consulting with the Oklahoma State Medical Examiner's Office and the Absentee-Shawnee Tribe of Indians of Oklahoma, Reclamation archeologists removed the human remains and took them to the Reclamation office in Amarillo, TX. Beginning in December of 1982, the human remains were curated at the Mabee-Gerrer Museum of Art, St. Gregory College in Shawnee, OK. On May 23, 1995, the human remains were moved to the Museum of the Great Plains in Lawton, OK, by Hector Garcia and placed on a one-year loan. The individual is represented by a nearly complete skeleton. The remains probably belong to a male 18-20 years old. No known individual was identified. No associated funerary objects are present.

Determinations Made by the U.S. Department of the Interior, Bureau of Reclamation, Oklahoma-Texas Area Office

Officials of the U.S. Department of the Interior, Bureau of Reclamation, Oklahoma-Texas Area Office have determined that:

• Pursuant to 25 U.S.C. 3001(9), the human remains described in this notice represent the physical remains of one individual of Native American ancestry.

• Pursuant to 25 U.S.C. 3001(2), there is a relationship of shared group identity that can be reasonably traced between the Native American human remains and the Absentee-Shawnee Tribe of Indians of Oklahoma.

Additional Requestors and Disposition

Lineal descendants or representatives of any Indian Tribe or Native Hawaiian organization not identified in this notice that wish to request transfer of control of these human remains should submit a written request with information in support of the request to Kate Ellison, Archeologist, Bureau of Reclamation, Oklahoma-Texas Area Office, 5924 NW 2nd Street, Suite 200, Oklahoma City, OK 73127, telephone (405) 470-4816, email kellison@usbr.gov, by March 14, 2022. After that date, if no additional requestors have come forward, transfer of control of the human remains to the Absentee-Shawnee Tribe of Indians of Oklahoma may proceed.

The U.S. Department of the Interior, Bureau of Reclamation, Oklahoma-Texas Area Office is responsible for notifying the Absentee-Shawnee Tribe of Indians of Oklahoma that this notice has been published.

Dated: February 3, 2022.
Melanie O'Brien,
Manager, National NAGPRA Program.

[FR Doc. 2022-02976 Filed 2-10-22; 8:45 am]

BILLING CODE 4312-52-P